DEPARTMENT OF AGRICULTURE

Rural Utilities Service

[Docket No.: RUS-24-WATER-0016]

Notice of a Revision to a Currently Approved Information Collection

AGENCY: Rural Utilities Service, USDA.

ACTION: Notice and request for comments.

SUMMARY: In accordance with the Paperwork Reduction Act of 1995, this notice announces the Rural Utilities Service's (RUS or the Agency), an agency with the United States Department of Agriculture, Rural Development, intention to request a revision to a currently approved information collection package for the Rural Decentralized Water Systems program. The Agency invites comments on this information collection for which the Agency intends to request approval from the Office of Management and Budget (OMB).

DATES: Comments on this notice must be received by August 27, 2024 to be assured of consideration.

FOR FURTHER INFORMATION CONTACT: Pamela Bennett, Rural Development Innovation Center—Regulations Management Division, USDA, 1400 Independence Avenue SW, STOP 1522, South Building, Washington, DC 20250-1522. Telephone: (202) 720-9639. Email pamela.bennett@usda.gov.

SUPPLEMENTARY INFORMATION: The OMB regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology.

Comments may be sent by the Federal eRulemaking Portal: Go to https://www.regulations.gov and, in the “Search” box, type in the Docket No. located at the beginning of this notice. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

A Federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: 7 CFR part 1776, “Rural Decentralized Water Systems”.

OMB Control Number: 0572-0139.

Type of Request: Revision of a currently approved information collection.

Abstract: The Agency supports the sound development of rural communities and the growth of our economy without endangering the environment. RUS provides financial and technical assistance to help communities bring safe drinking water and sanitary, environmentally sound waste disposal facilities to rural Americans in greatest need. The Rural Decentralized Water Systems (DWS) program makes grants to qualified, private non-profit organizations which will help homeowners finance the cost of individually owned decentralized water and or wastewater systems. As the grant recipient, non-profit organizations will establish a revolving loan fund lending program to provide decentralized water and or wastewater loans and subgrants to individuals who own or will own private decentralized water and or wastewater systems in rural areas. The individual loan recipients may use the funds to construct, refurbish, and service their household decentralized water and or wastewater systems for an existing home. The collection of information consists of the materials to file a grant application with the agency, including forms, certifications and required documentation.

Estimate of Burden: Public reporting burden for this collection of information is estimated to average 4.466 hours per response.

Respondents: Non-profit institutions.

Estimated Number of Respondents: 7.

Estimated Total Annual Responses: 146.

Estimated Number of Responses per Respondent: 20.86.

Estimated Total Annual Burden on Respondents: 652 hours.

Copies of this information collection can be obtained from Pamela Bennett, Rural Development Innovation Center—Regulations Management Division, USDA, 1400 Independence Avenue SW, South Building, Washington, DC 20250-1522. Email: pamela.bennett@usda.gov.

All responses to this notice will be summarized and included in the request for OMB approval. All comments will also become a matter of public record.

Andrew Berke,
Administrator, Rural Utilities Service.

[FR Doc. 2024-14267 Filed 6-27-24; 8:45 am]

BILLING CODE 3410-15-P